DEPARTMENT OF COMMERCE

International Trade Administration

[A-602-812, A-351-862, A-122-871, A-201-863, A-421-818, A-791-829, A-583-878, A-489-855, A-520-811, A-552-843]

Certain Corrosion-Resistant Steel Products From Australia, Brazil, Canada, Mexico, the Netherlands, South Africa, Taiwan, the Republic of Türkiye, the United Arab Emirates, and the Socialist Republic of Vietnam: Initiation of Less-Than-Fair-Value Investigations

AGENCY: Enforcement and Compliance, International Trade Administration, Department of Commerce.

DATES: Applicable September 25, 2024.

FOR FURTHER INFORMATION CONTACT: Maisha Cryor at (202) 482-5831 (Australia and Canada), Nathan Araya at (202) 482-3401 (Brazil), William Horn at (202) 482-4868 (Mexico), Kabir Archuletta at (202) 482-2593 (the Netherlands), Jacob Saude at (202) 482-0981 (South Africa), Fred Baker and Monique Cummings at (202) 482-2924 and (202) 482-3996, respectively (Taiwan), Brittany Bauer at (202) 482-3860 (the Republic of Türkiye (Türkiye)), Toni Page at (202) 482-1398 (the United Arab Emirates (UAE)), and Jacob Waddell at (202) 482-1369 (the Socialist Republic of Vietnam (Vietnam)), AD/CVD Operations, Enforcement and Compliance, International Trade Administration, U.S. Department of Commerce, 1401 Constitution Avenue NW, Washington, DC 20230.

SUPPLEMENTARY INFORMATION:

The Petitions

On September 5, 2024, the U.S. Department of Commerce (Commerce) received antidumping duty (AD) petitions concerning imports of certain corrosion-resistant steel products (CORE) from Australia, Brazil, Canada, Mexico, the Netherlands, South Africa, Taiwan, Türkiye, the UAE, and Vietnam filed in proper form on behalf of Steel Dynamics, Inc. (SDI), Nucor Corporation (Nucor), United States Steel Corporation (U.S. Steel), Wheeling-Nippon Steel, Inc. (Wheeling-Nippon), and the United Steel, Paper and Forestry, Rubber, Manufacturing, Energy, Allied Industrial and Service Workers International Union, AFL-CIO, CLC (the USW), domestic producers of CORE and a certified union, which represents workers engaged in the production of CORE in the United States (collectively, the petitioners).¹ The AD Petitions were accompanied by countervailing duty (CVD) petitions concerning imports of CORE from Brazil, Canada, Mexico, and Vietnam.²

¹ See Petitioners' Letter, “Petitions for the Imposition of Antidumping and Countervailing Duties,” dated September 5, 2024 (the Petitions). Nucor is not a petitioner with respect to the AD/CVD petitions on CORE from Mexico. U.S. Steel, Wheeling-Nippon, and the USW are not petitioners with respect to the AD/CVD petitions on CORE from Canada.

² Id.

Between September 9 and 19, 2024, Commerce requested supplemental information pertaining to certain aspects of the Petitions in supplemental questionnaires.³ The petitioners responded to Commerce's supplemental questionnaires between September 12 and 20, 2024.⁴

³ See Commerce's Letters, “Supplemental Questions,” dated September 9, 2024 (General Issues Questionnaire); see also Country-Specific AD Supplemental Questionnaires: Australia Supplemental, Brazil Supplemental, Canada Supplemental, Mexico Supplemental, the Netherlands Supplemental, South Africa Supplemental, Taiwan Supplemental, Türkiye Supplemental, UAE Supplemental, and Vietnam Supplemental, dated September 9, 2024; Commerce's Letter, “Second Supplemental Questions,” dated September 16, 2024 (Second General Issues Questionnaire); Second Country-Specific AD Supplemental Questionnaires: the Netherlands Second Supplemental and Vietnam Second Supplemental, dated September 17, 2024; and Memorandum, “Phone Call,” dated September 19, 2024.

⁴ See Petitioners' Letters, “Response to General Issues Questionnaire and Amendment to Volume I of Petitions,” dated September 12, 2024 (First General Issues Supplement); see also Country-Specific AD Supplemental Responses: Australia AD Supplement, Brazil AD Supplement, Canada AD Supplement, Mexico AD Supplement, the Netherlands AD Supplement, South Africa AD Supplement, Taiwan AD Supplement, Türkiye AD Supplement, UAE AD Supplement, and Vietnam AD Supplement, dated September 12, 2024; Petitioners' Letter, “Petitioner's Response to Second General Issues Supplemental Questionnaire and Amendment to Volume I of Petitions,” dated September 18, 2024 (Second General Issues Supplement); Country-Specific AD Supplemental Responses: Second Netherlands AD Supplement and Second Vietnam AD Supplement, dated September 18, 2024; and Petitioners' Letter, “Response to Third General Issues Questionnaire and Amendment to Volume I of Petitions,” dated September 20, 2024 (Third General Issues Supplement).

In accordance with section 732(b) of the Tariff Act of 1930, as amended (the Act), the petitioners allege that imports of CORE from Australia, Brazil, Canada, Mexico, the Netherlands, South Africa, Taiwan, Türkiye, the UAE, and Vietnam are being, or are likely to be, sold in the United States at less than fair value (LTFV) within the meaning of section 731 of the Act, and that imports of such products are materially injuring, or threatening material injury to, the CORE industry in the United States. Consistent with section 732(b)(1) of the Act, the Petitions were accompanied by information reasonably available to the petitioners supporting their allegations.

Commerce finds that the petitioners filed the Petitions on behalf of the domestic industry, because the petitioners are interested parties, as defined in sections 771(9)(C) and (D) of the Act.⁵ Commerce also finds that the petitioners demonstrated sufficient industry support for the initiation of the requested LTFV investigations.⁶

⁵ SDI, Nucor, U.S. Steel, and Wheeling-Nippon are interested parties under section 771(9)(C) of the Act, while the USW is an interested party under section 771(9)(D) of the Act.

⁶ See section on “Determination of Industry Support for the Petitions,” infra.

Periods of Investigation

Because the Petitions were filed on September 5, 2024, pursuant to 19 CFR 351.204(b)(1), the period of investigation (POI) for Australia, Brazil, Canada, Mexico, the Netherlands, South Africa, Taiwan, Türkiye, and the UAE LTFV investigations is July 1, 2023, through June 30, 2024. Because Vietnam is a non-market economy (NME) country, pursuant to 19 CFR 351.204(b)(1), the POI for the Vietnam LTFV investigation is January 1, 2024, through June 30, 2024.

Scope of the Investigations

The product covered by these investigations is CORE from Australia, Brazil, Canada, Mexico, the Netherlands, South Africa, Taiwan, Türkiye, the UAE, and Vietnam. For a full description of the scope of these investigations, see the appendix to this notice.

Comments on the Scope of the Investigations

On September 9 and 16, 2024, Commerce requested information and clarification from the petitioners regarding the proposed scope to ensure that the scope language in the Petitions is an accurate reflection of the products for which the domestic industry is seeking relief.⁷ On September 12 and 18, 2024, the petitioners provided clarifications and revised the scope.⁸ The description of merchandise covered by these investigations, as described in the appendix to this notice, reflects these clarifications.

⁷ See General Issues Questionnaire; see also Second General Issues Questionnaire.

⁸ See First General Issues Supplement at 7-9 and Exhibit Supp. I-55; see also Second General Issues Supplement at 2-3 and Exhibit 2nd Supp I-7.

As discussed in the Preamble to Commerce's regulations, we are setting aside a period for interested parties to raise issues regarding product coverage (i.e., scope).⁹ Commerce will consider all scope comments received from interested parties and, if necessary, will consult with interested parties prior to the issuance of the preliminary determinations. If scope comments include factual information,¹⁰ all such factual information should be limited to public information. To facilitate preparation of its questionnaires, Commerce requests that scope comments be submitted by 5:00 p.m. Eastern Time (ET) on October 15, 2024, which is 20 calendar days from the signature date of this notice.¹¹ Any rebuttal comments, which may include factual information, and should also be limited to public information, must be filed by 5:00 p.m. ET on October 25, 2024, which is 10 calendar days from the initial comment deadline.

⁹ See Antidumping Duties; Countervailing Duties, Final Rule, 62 FR 27296, 27323 (May 19, 1997) (Preamble); see also 19 CFR 351.312.

¹⁰ See 19 CFR 351.102(b)(21) (defining “factual information”).

¹¹ See 19 CFR 351.303(b)(1).

Commerce requests that any factual information that parties consider relevant to the scope of these investigations be submitted during that period. However, if a party subsequently finds that additional factual information pertaining to the scope of the investigations may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.¹² An electronically filed document must be received successfully in its entirety by the time and date it is due.

¹² See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of CORE to be reported in response to Commerce's AD questionnaires. This information will be used to identify the key physical characteristics of the subject merchandise in order to report the relevant factors of production (FOP) or cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe CORE, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on October 15, 2024, which is 20 calendar days from the signature date of this notice.¹³ Any rebuttal comments must be filed by 5:00 p.m. ET on October 25, 2024, which is 10 calendar days from the initial comment deadline. All comments and submissions to Commerce must be filed electronically using ACCESS, as explained above, on the record of each of the LTFV investigations.

¹³ See 19 CFR 351.303(b)(1).

Determination of Industry Support for the Petitions

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁶ Based on our analysis of the information submitted on the record, we have determined that CORE, as defined in the scope, constitutes a single domestic like product, and we have analyzed industry support in terms of that domestic like product.¹⁷

¹⁶ For a discussion of the domestic like product analysis as applied to these cases and information regarding industry support, see Checklists, “Antidumping Duty Investigation Initiation Checklists: Certain Corrosion-Resistant Steel Products from Australia, Brazil, Canada, Mexico, the Netherlands, South Africa, Taiwan, the Republic of Türkiye, the United Arab Emirates, and the Socialist Republic of Vietnam,” dated concurrently with, and hereby adopted by, this notice (Country-Specific AD Initiation Checklists), at Attachment II, Analysis of Industry Support for the Antidumping and Countervailing Duty Petitions Covering Certain Corrosion-Resistant Steel Products from Australia, Brazil, Canada, Mexico, the Netherlands, South Africa, Taiwan, the Republic of Türkiye, the United Arab Emirates, and the Socialist Republic of Vietnam (Attachment II). These checklists are on file electronically via ACCESS.

¹⁷ See Attachment II of the Country-Specific AD Initiation Checklists.

In determining whether the petitioners have standing under section 732(c)(4)(A) of the Act, we considered the industry support data contained in the Petitions with reference to the domestic like product as defined in the “Scope of the Investigations,” in the appendix to this notice. To establish industry support, the petitioners provided the 2023 total shipments of the domestic like product for the U.S. producers and workers that support the Petitions and compared this to the estimated total 2023 shipments of the domestic like product for the entire domestic industry.¹⁸ The petitioners estimated total shipments of the domestic like product for the entire domestic industry based on shipment data from the American Iron and Steel Institute and made certain adjustments to these data to approximate total shipments of the domestic like product in 2023.¹⁹ Because total industry production data for the domestic like product for 2023 are not reasonably available to the petitioners, and the petitioners have established that shipments are a reasonable proxy for production data,²⁰ we have relied on the data provided by the petitioners for purposes of measuring industry support.²¹

¹⁸ Id.

¹⁹ Id.

²⁰ Id.

²¹ Id.

On September 18, 2024, we received timely filed comments on industry support from several parties: Stelco, Inc. (Stelco), a Canadian producer/exporter of CORE; ²² ArcelorMittal Dofasco G.P. (Dofasco), a Canadian producer and exporter of CORE; ²³ Ternium USA and Ternium Mexico S.A. de C.V. (collectively, Ternium), a U.S. producer and importer of CORE and a Mexican producer/exporter of CORE, respectively; ²⁴ and Government of Canada (GOC) and the Government of Ontario (collectively).²⁵ In its September 18, 2024, submission, Ternium stated that it opposed the Mexico AD Petition.²⁶ In addition, in consultations held by Commerce officials with representatives of the GOC on September 19, 2024, regarding the Canada CVD Petition, the GOC raised industry support concerns relating to both the CVD and AD Petitions.²⁷ On September 20, 2024, the petitioners responded to the comments from Stelco, GOC, Dofasco, and Ternium in timely filed rebuttal submissions.²⁸ Also on September 20, 2024, Stelco, Dofasco, and Ternium submitted additional comments.²⁹ On September 24, 2024, Ternium submitted additional comments and provided its 2023 shipments and production.³⁰

²² See Stelco's Letter, “Comments on Industry Support for the Petitions and Request for Polling,” dated September 18, 2024.

²³ See Dofasco's Letter, “Comments on Industry Support and Request for Industry Polling,” dated September 18, 2024.

²⁴ See Ternium's Letters, “Comments on Petitioners' Standing,” dated September 18, 2024 (Ternium Letter I), and “Entry of Appearance,” dated September 13, 2024.

²⁵ See GOC and Government of Ontario's Letter, “Industry Support Comments,” dated September 18, 2024.

²⁶ See Ternium Letter I at 3.

²⁷ See Memorandum, “Consultations with Officials from the Government of Canada.,” dated September 19, 2024; see also GOC's Letter, “Government of Canada's Consultations Materials,” dated September 20, 2024.

²⁸ See Petitioners' Letters, “Response to Comments on Industry Support and Request for Polling,” dated September 20, 2024 (Petitioners' Response I), “Response to Comments on Industry Support,” dated September 20, 2024 (Petitioners' Response II), and “Response to Comments on Petitioners' Standing,” dated September 20, 2024 (Petitioners' Response III).

²⁹ See Stelco's Letter, “Rebuttal Comments on Industry Support for the Petitions and Request for Polling,” dated September 20, 2024; see also Dofasco's Letter, “Rebuttal Comments to Petitioners' Response to the Second General Issues Questionnaire and Amendment to Volume I of Petitions,” dated September 20, 2024; and Ternium's Letter, “Ternium's Second Comments on Petitioners' Standing,” dated September 20, 2024.

³⁰ See Ternium's Letter, “Ternium's Third Comments on Petitioners' Standing,” dated September 24, 2024.

Our review of the data provided in the Petitions, the First General Issues Supplement, Second General Issues Supplement, the Third General Issues Supplement, Petitioners' Response I, Petitioners' Response II, Petitioners' Response III, and other information readily available to Commerce, indicates that the petitioners have established industry support for the Petitions.³¹ With respect to the Australia, Brazil, Mexico, Netherlands, South Africa, Taiwan, Türkiye, UAE, and Vietnam AD Petitions, we determine that the domestic producers and workers that support these AD Petitions account for more than 50 percent of the total production of the domestic like product and, as such, Commerce is not required to take further action to evaluate industry support (e.g., polling).³² Second, the domestic producers and workers have met the statutory criteria for industry support under section 732(c)(4)(A)(i) of the Act because the domestic producers and workers who support the Australia, Brazil, Mexico, Netherlands, South Africa, Taiwan, Türkiye, UAE, and Vietnam AD Petitions account for at least 25 percent of the total production of the domestic like product.³³ Finally, the domestic producers and workers have met the statutory criteria for industry support under section 732(c)(4)(A)(ii) of the Act because the domestic producers and workers who support the Australia, Brazil, Mexico, Netherlands, South Africa, Taiwan, Türkiye, UAE, and Vietnam AD Petitions account for more than 50 percent of the production of the domestic like product produced by that portion of the industry expressing support for, or opposition to, the Petitions.³⁴ Accordingly, Commerce determines that the Australia, Brazil, Mexico, Netherlands, South Africa, Taiwan, Türkiye, UAE, and Vietnam AD Petitions were filed on behalf of the domestic industry within the meaning of section 732(b)(1) of the Act.³⁵

³¹ For further discussion, see Attachment II of the Country-Specific AD Initiation Checklists.

³² Id.; see also section 732(c)(4)(D) of the Act.

³³ See Attachment II of the Country-Specific AD Initiation Checklists.

³⁴ Id.

³⁵ Id.

With respect to the Canada AD Petition, based on information provided in the Petition and supplemental responses thereto, we determine that the domestic producers (or workers) have met the statutory criteria for industry support under section 732(c)(4)(A)(i) of the Act, because the domestic producers (or workers) who support the Canada AD Petition account for at least 25 percent of the total production of the domestic like product.³⁶ Because the Canada AD Petition and supplemental submissions did not establish support from domestic producers (or workers) accounting for more than 50 percent of the total production of the domestic like product, Commerce was required to take further action in order to evaluate industry support.³⁷ In this case, Commerce was able to rely on other information, in accordance with section 732(c)(4)(D)(i) of the Act, to determine industry support.³⁸ Based on information provided in the Petitions, supplemental responses, and other information readily available to Commerce, the domestic producers (or workers) have met the statutory criteria for industry support under section 732(c)(4)(A)(ii) of the Act because the domestic producers (or workers) who support the Canada AD Petition account for more than 50 percent of the production of the domestic like product produced by that portion of the industry expressing support for, or opposition to, the Canada AD Petition.³⁹ Accordingly, Commerce determines that the Canada AD Petition was filed on behalf of the domestic industry within the meaning of section 732(b)(1) of the Act.⁴⁰

³⁶ See Attachment II of the Canada AD Initiation Checklist.

³⁷ Id.; see also section 732(c)(4)(D) of the Act.

³⁸ See Attachment II of the Canada AD Initiation Checklist.

³⁹ Id.

⁴⁰ Id.

Allegations and Evidence of Material Injury and Causation

The petitioners allege that the U.S. industry producing the domestic like product is being materially injured, or is threatened with material injury, by reason of the imports of the subject merchandise sold at LTFV. In addition, with respect to Brazil, Canada, Mexico, Taiwan, and Vietnam, the petitioners allege that subject imports exceed the negligibility threshold provided for under section 771(24)(A) of the Act.⁴¹ With respect to Australia, the Netherlands, South Africa, Türkiye, and the UAE, while the allegedly dumped imports from each of these countries do not individually exceed the statutory requirements for negligibility, the petitioners provided data demonstrating that the aggregate import share from these five countries is 9.01 percent, which exceeds the seven percent threshold established by the exception in section 771(24)(A)(ii) of the Act.⁴²

⁴¹ For further information regarding negligibility and the injury allegation, see Country-Specific AD Initiation Checklists at Attachment III, Analysis of Allegations and Evidence of Material Injury and Causation for the Antidumping and Countervailing Duty Petitions Covering Certain Corrosion-Resistant Steel Products from Australia, Brazil, Canada, Mexico, the Netherlands, South Africa, Taiwan, the Republic of Türkiye, the United Arab Emirates, and the Socialist Republic of Vietnam (Attachment III).

⁴² See Attachment III of the Country-Specific AD Initiation Checklists.

The petitioners contend that the industry's injured condition is illustrated by the significant volume of subject imports; reduced market share; underselling and price depression and/or suppression; and low and declining capacity utilization; and declines in U.S. commercial shipment values, net sales values, operating income, and net income.⁴³ We assessed the allegations and supporting evidence regarding material injury, threat of material injury, causation, cumulation, as well as negligibility, and we have determined that these allegations are properly supported by adequate evidence and meet the statutory requirements for initiation.⁴⁴

⁴³ Id.

⁴⁴ Id.

Allegations of Sales at LTFV

The following is a description of the allegations of sales at LTFV upon which Commerce based its decision to initiate LTFV investigations of imports of CORE from Australia, Brazil, Canada, Mexico, the Netherlands, South Africa, Taiwan, Türkiye, the UAE, and Vietnam. The sources of data for the deductions and adjustments relating to U.S. price and normal value (NV) are discussed in greater detail in the Country-Specific AD Initiation Checklists.

U.S. Price

For Australia, Brazil, Canada, Mexico, the Netherlands, South Africa, Türkiye, the UAE, and Vietnam, the petitioners based export price (EP) on the POI average unit values (AUVs) derived from official U.S. import statistics for imports of CORE produced in and exported from each country.⁴⁵ For Taiwan, the petitioners based EP on a transaction-specific AUV (i.e., month- and port-specific AUV) derived from official import statistics and tied to ship manifest data.⁴⁶ For each country, the petitioners made certain adjustments to U.S. price to calculate a net ex-factory U.S. price, where applicable.⁴⁷

⁴⁵ See Country-Specific AD Initiation Checklists.

⁴⁶ See Taiwan AD Initiation Checklist.

⁴⁷ See Country-Specific AD Initiation Checklists.

Normal Value ⁴⁸

For Australia, Brazil, Canada, Mexico, the Netherlands, Taiwan, Türkiye, and the UAE, the petitioners based NV on home market pricing information they obtained for CORE produced in and sold, or offered for sale, in the respective countries during the applicable time period.⁴⁹ For Canada, the Netherlands, and the UAE, the petitioners provided information indicating that the prices for CORE sold or offered for sale in the respective countries were below the COP. Therefore, for Canada, the Netherlands, and the UAE, the petitioners based NV on constructed value (CV).⁵⁰ For South Africa, the petitioners stated that they were unable to obtain home market or third country pricing information for CORE to use as a basis for NV.⁵¹ Therefore, for South Africa, the petitioners calculated NV based on CV.⁵² For further discussion of CV for Canada, the Netherlands, South Africa, and the UAE, see the section “Normal Value Based on Constructed Value,” below.

⁴⁸ In accordance with section 773(b)(2) of the Act, for the Australia, Brazil, Canada, Mexico, the Netherlands, South Africa, Taiwan, Türkiye, and the UAE investigations, Commerce will request information necessary to calculate the constructed value (CV) and COP to determine whether there are reasonable grounds to believe or suspect that sales of the foreign like product have been made at prices that represent less than the COP of the product.

⁴⁹ See Country-Specific AD Initiation Checklists.

⁵⁰ Id.

⁵¹ See South Africa AD Initiation Checklist.

⁵² Id.

Commerce considers Vietnam to be an NME country.⁵³ In accordance with section 771(18)(C)(i) of the Act, any determination that a foreign country is an NME country shall remain in effect until revoked by Commerce. Therefore, we continue to treat Vietnam as an NME country for purposes of the initiation of the Vietnam LTFV investigation. Accordingly, we base NV on FOPs valued in a surrogate market economy country in accordance with section 773(c) of the Act.

⁵³ See, e.g., Raw Honey from the Socialist Republic of Vietnam: Final Results of Antidumping Duty Changed Circumstances Review, 89 FR 64411 (August 7, 2024), and accompanying NME Analysis Memorandum at 5.

The petitioners claim that Morocco is an appropriate surrogate country for Vietnam because it is a market economy that is at a level of economic development comparable to that of Vietnam and is a significant producer of comparable merchandise.⁵⁴ The petitioners provided publicly available information from Morocco to value all FOPs.⁵⁵ Based on the information provided by the petitioners, we believe it is appropriate to use Morocco as a surrogate country for Vietnam to value all FOPs for initiation purposes.

⁵⁴ See Vietnam AD Initiation Checklist.

⁵⁵ Id.

Interested parties will have the opportunity to submit comments regarding surrogate country selection and, pursuant to 19 CFR 351.301(c)(3)(i), will be provided an opportunity to submit publicly available information to value FOPs within 30 days before the scheduled date of the preliminary determination.

Factors of Production

Because information regarding the volume of inputs consumed by Vietnamese producers/exporters was not reasonably available, the petitioners used product-specific consumption rates from a U.S. producer of CORE as a surrogate to value Vietnamese manufacturers' FOPs.⁵⁶ Additionally, the petitioners calculated factory overhead, selling, general, and administrative (SG&A) expenses, and profit based on the experience of a Moroccan producer of comparable merchandise.⁵⁷

⁵⁶ Id.

⁵⁷ Id.

Normal Value Based on Constructed Value

As noted above for Canada, the Netherlands, and the UAE, the petitioners provided information indicating that the prices for CORE sold or offered for sale in the respective countries were below the COP. Also as noted above, for South Africa, the petitioners stated that they were unable to obtain home market or third-country prices for CORE to use as a basis for NV. Therefore, for Canada, the Netherlands, South Africa, and the UAE, the petitioners calculated NV based on CV.⁵⁸

⁵⁸ See Country-Specific AD Initiation Checklists.

Pursuant to section 773(e) of the Act, the petitioners calculated CV as the sum of the cost of manufacturing, SG&A expenses, financial expenses, and profit.⁵⁹ For Canada, the Netherlands, South Africa, and the UAE, in calculating the cost of manufacturing, the petitioners relied on the production experience and input consumption rates of a U.S. producer of CORE, valued using publicly available information applicable to the respective countries, where applicable.⁶⁰ In calculating SG&A expenses, financial expenses, and profit ratios, the petitioners relied on the fiscal year 2023 financial statements of producers of comparable merchandise domiciled in each country, respectively.⁶¹

⁵⁹ Id.

⁶⁰ Id.

⁶¹ Id.

Fair Value Comparisons

Based on the data provided by the petitioners, there is reason to believe that imports of CORE from Australia, Brazil, Canada, Mexico, the Netherlands, South Africa, Taiwan, Türkiye, the UAE, and Vietnam are being, or are likely to be, sold in the United States at LTFV. Based on comparisons of EP to NV in accordance with sections 772 and 773 of the Act, the estimated dumping margins for CORE for each of the countries covered by this initiation are as follows: (1) Australia—45.86 to 51.79 percent; (2) Brazil—52.03 to 107.67 percent; (3) Canada—19.73 to 52.08 percent; (4) Mexico—27.46 to 41.94 percent; (5) the Netherlands—12.70 to 20.51 percent; (6) South Africa—53.81 to 53.86 percent ; (7) Taiwan—67.81 percent; (8) Türkiye—18.30 to 34.59 percent; (9) the UAE—77.09 to 78.53 percent; and (10) Vietnam—195.23 percent.⁶²

⁶² Id.

Initiation of LTFV Investigations

Based upon the examination of the Petitions and supplemental responses, we find that they meet the requirements of section 732 of the Act. Therefore, we are initiating LTFV investigations to determine whether imports of CORE from Australia, Brazil, Canada, Mexico, the Netherlands, South Africa, Taiwan, Türkiye, the UAE, and Vietnam are being, or are likely to be, sold in the United States at LTFV. In accordance with section 733(b)(1)(A) of the Act and 19 CFR 351.205(b)(1), unless postponed, we will make our preliminary determinations no later than 140 days after the date of these initiations.

Respondent Selection

Australia, Brazil, Canada, Mexico, the Netherlands, South Africa, and Türkiye

In the Petitions, the petitioners identified six companies in Australia, eight companies in Brazil, five companies in Canada, six companies in Mexico, seven companies in the Netherlands, three companies in South Africa, and 27 companies in Türkiye as producers/exporters of CORE.⁶³ Following standard practice in LTFV investigations involving market economy countries, in the event Commerce determines that the number of companies is large, and it cannot individually examine each company based upon Commerce's resources, where appropriate, Commerce intends to select mandatory respondents based on U.S. Customs and Border Protection (CBP) data for imports under the appropriate Harmonized Tariff Schedule of the United States (HTSUS) subheading(s) listed in the “Scope of the Investigations,” in the appendix.

⁶³ See Petitions at Volume I (page 27 and Exhibits I-9 through I-14 and I-16); see also First General Issues Supplement at 7 and Exhibits Supp. I-14 and Supp. I-16.

On September 23 and 25, 2024, Commerce released CBP data on imports of CORE from Australia, Brazil, Canada, Mexico, the Netherlands, South Africa, and Türkiye under administrative protective order (APO) to all parties with access to information protected by APO and indicated that interested parties wishing to comment on CBP data and/or respondent selection must do so within three business days of the publication date of the notice of initiation of these investigations.⁶⁴ Comments must be filed electronically using ACCESS. An electronically filed document must be received successfully in its entirety via ACCESS by 5:00 p.m. ET on the specified deadline. Commerce will not accept rebuttal comments regarding the CBP data or respondent selection.

⁶⁴ See Country-Specific Memoranda, “Release of U.S. Customs and Border Protection Entry Data,” dated September 23 and 25, 2024.

Interested parties must submit applications for disclosure under APO in accordance with 19 CFR 351.305(b). Instructions for filing such applications may be found on Commerce's website at https://www.trade.gov/administrative-protective-orders.

Taiwan

In the Petitions, the petitioners identified 13 companies in Taiwan as producers and/or exporters of CORE.⁶⁵ In the event that Commerce determines that the number of companies is large, and it cannot individually examine each company based upon Commerce's resources, where appropriate, Commerce intends to select mandatory respondents based on quantity and value (Q&V) questionnaires issued to potential respondents. Following standard practice in LTFV investigations involving market economy countries, Commerce would normally select respondents based on CBP entry data for imports under the appropriate HTSUS subheading(s) listed in the “Scope of the Investigations” in the Appendix. However, for the Taiwan LTFV investigation, due to the existing AD order on imports of CORE from Taiwan,⁶⁶ we cannot rely on CBP data in selecting respondents. Accordingly, for Taiwan, Commerce will send Q&V questionnaires to each producer and/or exporter for which there is complete address information on the record.

⁶⁵ See Petitions at Volume I (page 27 and Exhibit I-15); see also First General Issues Supplement at 7 and Exhibit Supp. I-15.

⁶⁶ See Certain Corrosion-Resistant Steel Products from India, Italy, the People's Republic of China, the Republic of Korea and Taiwan: Amended Final Affirmative Antidumping Determination for India and Taiwan, and Antidumping Duty Orders, 81 FR 48390 (July 25, 2016); see also Corrosion-Resistant Steel Products from Taiwan: Notice of Third Amended Final Determination of Sales at Less Than Fair Value Pursuant to Court Decision and Partial Exclusion from Antidumping Duty Order, 88 FR 58245 (August 25, 2023).

Commerce will post the Q&V questionnaire along with filing instructions on Commerce's website at https://www.trade.gov/ec-adcvd-case-announcements. Producers/exporters of CORE from Taiwan that do not receive Q&V questionnaires may still submit a response to the Q&V questionnaire and can obtain a copy of the Q&V questionnaire from Commerce's website. Responses to the Q&V questionnaire must be submitted by the relevant Taiwanese producers/exporters no later than 5:00 p.m. ET on October 9, 2024, which is two weeks from the signature date of this notice. All Q&V questionnaire responses must be filed electronically via ACCESS. An electronically filed document must be received successfully, in its entirety, by ACCESS no later than 5:00 p.m. ET on the deadline noted above.

UAE

In the Petitions, the petitioners named five companies in the UAE as producers and/or exporters of CORE.⁶⁷ In the event that Commerce determines that the number of companies is large, and it cannot individually examine each company based upon Commerce's resources, where appropriate, Commerce intends to select mandatory respondents based on Q&V questionnaires issued to potential respondents. Following standard practice in LTFV investigations involving market economy countries, Commerce would normally select respondents based on CBP entry data for imports under the appropriate HTSUS subheading(s) listed in the “Scope of the Investigations” in the Appendix. However, for the UAE LTFV investigation, due to Commerce's determination that certain imports of CORE from the UAE are circumventing the AD order on CORE from the People's Republic of China,⁶⁸ we cannot rely on CBP data in selecting respondents. Accordingly, for the UAE, Commerce will send Q&V questionnaires to each producer and/or exporter for which there is complete address information on the record.

⁶⁷ See Petitions at Volume I (page 27 and Exhibit I-17).

⁶⁸ See Certain Corrosion-Resistant Steel Products from the People's Republic of China: Affirmative Final Determination of Circumvention Involving the United Arab Emirates, 85 FR 41957 (July 13, 2020).

Commerce will post the Q&V questionnaire along with filing instructions on Commerce's website at https://www.trade.gov/ec-adcvd-case-announcements. Producers/exporters of CORE from the UAE that do not receive Q&V questionnaires may still submit a response to the Q&V questionnaire and can obtain a copy of the Q&V questionnaire from Commerce's website. Responses to the Q&V questionnaire must be submitted by the relevant UAE producers/exporters no later than 5:00 p.m. ET on October 9, 2024, which is two weeks from the signature date of this notice. All Q&V questionnaire responses must be filed electronically via ACCESS. An electronically filed document must be received successfully, in its entirety, by ACCESS no later than 5:00 p.m. ET on the deadline noted above.

Vietnam

In the Petitions, the petitioners named 17 companies in Vietnam as producers and/or exporters of CORE.⁶⁹ Our standard practice for respondent selection in AD investigations involving NME countries is to select respondents based on quantity and value (Q&V) questionnaires in cases where Commerce has determined that the number of companies is large, and it cannot individually examine each company based upon its resources. Therefore, considering the number of producers and/or exporters identified in the Petitions, Commerce will solicit Q&V information that can serve as a basis for selecting exporters for individual examination in the event that Commerce determines that the number is large and decides to limit the number of respondents individually examined pursuant to section 777A(c)(2) of the Act. There are 17 Vietnamese producers and/or exporters identified in the Petitions. Commerce has determined that this number of producers and/or exporters is large, and thus, it will issue Q&V questionnaires to each potential respondent for which there is complete address information on the record.

⁶⁹ See Petitions at Volume I (page 27 and Exhibit I-18); see also First General Issues Supplement at 7 and Exhibit Supp. I-18.

Commerce will post the Q&V questionnaires along with filing instructions on Commerce's website at https://www.trade.gov/ec-adcvd-case-announcements. Producers/exporters of CORE from Vietnam that do not receive Q&V questionnaires may still submit a response to the Q&V questionnaire and can obtain a copy of the Q&V questionnaire from Commerce's website. Responses to the Q&V questionnaire must be submitted by the relevant Vietnamese producers/exporters no later than 5:00 p.m. ET on October 9, 2024, which is two weeks from the signature date of this notice. All Q&V questionnaire responses must be filed electronically via ACCESS. An electronically filed document must be received successfully, in its entirety, by ACCESS no later than 5:00 p.m. ET on the deadline noted above.

Interested parties must submit applications for disclosure under APO in accordance with 19 CFR 351.305(b). As stated above, instructions for filing such applications may be found on Commerce's website at https://www.trade.gov/administrative-protective-orders.

Separate Rates

In order to obtain separate rate status in an NME investigation, exporters and producers must submit a separate rate application. The specific requirements for submitting a separate rate application in an NME investigation are outlined in detail in the application itself, which is available on Commerce's website at https://access.trade.gov/Resources/nme/nme-sep-rate.html. The separate rate application will be due 30 days after publication of this initiation notice. Exporters and producers must file a timely separate rate application if they want to be considered for individual examination. Exporters and producers who submit a separate rate application and have been selected as mandatory respondents will be eligible for consideration for separate rate status only if they respond to all parts of Commerce's AD questionnaire as mandatory respondents. Commerce requires that companies from Vietnam submit a response both to the Q&V questionnaire and to the separate rate application by the respective deadlines to receive consideration for separate rate status. Companies not filing a timely Q&V questionnaire response will not receive separate rate consideration.

Use of Combination Rates

Commerce will calculate combination rates for certain respondents that are eligible for a separate rate in an NME investigation. The Separate Rates and Combination Rates Bulletin states:

{w}hile continuing the practice of assigning separate rates only to exporters, all separate rates that {Commerce} will now assign in its NME investigation will be specific to those producers that supplied the exporter during the period of investigation. Note, however, that one rate is calculated for the exporter and all of the producers which supplied subject merchandise to it during the period of investigation. This practice applies both to mandatory respondents receiving an individually calculated separate rate as well as the pool of non-investigated firms receiving the {weighted average} of the individually calculated rates. This practice is referred to as the application of “combination rates” because such rates apply to specific combinations of exporters and one or more producers. The cash-deposit rate assigned to an exporter will apply only to merchandise both exported by the firm in question and produced by a firm that supplied the exporter during the period of investigation.⁷⁰

⁷⁰ See Enforcement and Compliance's Policy Bulletin No. 05.1, regarding, “Separate-Rates Practice and Application of Combination Rates in Antidumping Investigation involving NME Countries,” (April 5, 2005) at 6 (emphasis added), available on Commerce's website at https://access.trade.gov/Resources/policy/bull05-1.pdf.

Distribution of Copies of the Petitions

In accordance with section 732(b)(3)(A) of the Act and 19 CFR 351.202(f), copies of the public version of the Petitions have been provided to the governments of Australia, Brazil, Canada, Mexico, the Netherlands, South Africa, Taiwan, Türkiye, the UAE, and Vietnam via ACCESS. To the extent practicable, we will attempt to provide a copy of the public version of the Petitions to each exporter named in the Petitions, as provided under 19 CFR 351.203(c)(2).

ITC Notification

Commerce will notify the ITC of our initiation, as required by section 732(d) of the Act.

Preliminary Determinations by the ITC

The ITC will preliminarily determine, within 45 days after the date on which the Petitions were filed, whether there is a reasonable indication that imports of CORE from Australia, Brazil, Canada, Mexico, the Netherlands, South Africa, Taiwan, Türkiye, the UAE, and/or Vietnam are materially injuring, or threatening material injury to, a U.S. industry.⁷¹ A negative ITC determination for any country will result in the investigation being terminated with respect to that country.⁷² Otherwise, these LTFV investigations will proceed according to statutory and regulatory time limits.

⁷¹ See section 733(a) of the Act.

⁷² Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁷³ and, if the information is submitted to rebut, clarify, or correct factual information already on the record, to provide an explanation identifying the information already on the record that the factual information seeks to rebut, clarify, or correct.⁷⁴ Time limits for the submission of factual information are addressed in 19 CFR 351.301, which provides specific time limits based on the type of factual information being submitted. Interested parties should review the regulations prior to submitting factual information in these investigations.

⁷³ See 19 CFR 351.301(b).

⁷⁴ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), the submission must be filed in accordance with the requirements of 19 CFR 351.416(b), and Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁷⁵ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁷⁶

⁷⁵ See 19 CFR 351.301; see also Extension of Time Limits; Final Rule, 78 FR 57790 (September 20, 2013) (Time Limits Final Rule), available at https://www.gpo.gov/fdsys/pkg/FR-2013-09-20/html/2013-22853.htm.

⁷⁶ See 19 CFR 351.302; see also, e.g., Time Limits Final Rule.

Certification Requirements

Any party submitting factual information in an AD or CVD proceeding must certify to the accuracy and completeness of that information.⁷⁷ Parties must use the certification formats provided in 19 CFR 351.303(g).⁷⁸ Commerce intends to reject factual submissions if the submitting party does not comply with the applicable certification requirements.

⁷⁷ See section 782(b) of the Act.

⁷⁸ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in these investigations should ensure that they meet the requirements of 19 CFR 351.103(d) (e.g., by filing the required letter of appearance). Note that Commerce has amended certain of its requirements pertaining to the service of documents in 19 CFR 351.303(f).⁷⁹

⁷⁹ See Administrative Protective Order, Service, and Other Procedures in Antidumping and Countervailing Duty Proceedings, 88 FR 67069 (September 29, 2023).

This notice is issued and published pursuant to sections 732(c)(2) and 777(i) of the Act, and 19 CFR 351.203(c).

Dated: September 25, 2024.
Ryan Majerus,
Deputy Assistant Secretary for Policy and Negotiations, performing the non-exclusive functions and duties of the Assistant Secretary for Enforcement and Compliance.

Appendix

Scope of the Investigations

The products covered by these investigations are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these investigations are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the investigations if performed in the country of manufacture of the in-scope corrosion resistant steel.

All products that meet the written physical description are within the scope of these investigations unless specifically excluded. The following products are outside of and/or specifically excluded from the scope of these investigations:

• Flat-rolled steel products either plated or coated with tin, lead, chromium, chromium oxides, both tin and lead (“terne plate”) or both chromium and chromium oxides (“tin free steel”), whether or not painted, varnished or coated with plastics or other non-metallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%-20% ratio; and

Also excluded from the scope of the antidumping duty investigation on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty investigation on corrosion-resistant steel from the United Arab Emirates and the antidumping duty and countervailing duty investigations on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion-resistant steel from Taiwan.

The products subject to the investigations are currently classified in the Harmonized Tariff Schedule of the United States (HTSUS) under item numbers: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to the investigations may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the investigations is dispositive.

[FR Doc. 2024-22592 Filed 10-1-24; 8:45 am]

BILLING CODE 3510-DS-P